FEDERAL COMMUNICATIONS COMMISSION

[Report No. AUC-02-46-D; DA 02-2305]

Wireless Telecommunications Bureau Announces Revised Pre-Auction Deadlines for the 1670-1675 MHz Band Auction (Auction No. 46)

AGENCY: Federal Communications Commission.

ACTION: Notice.

SUMMARY: This document revises the pre-auction schedule for Auction No. 46 to give the Bureau time to consider a request for postponement of the auction and any comments filed in response.

DATES: Auction No. 46 is scheduled to begin on October 30, 2002.

FOR FURTHER INFORMATION CONTACT: Francis Gutierrez, Auction and Industry Analysis Division, Legal Branch at (202) 418-0660 or Lisa Stover, Auction and Industry Analysis Division at (717) 338-2888.

SUPPLEMENTARY INFORMATION: This is a summary of a Public Notice released by the Wireless Telecommunications Bureau on September 17, 2002. The complete text of the Public Notice is available for public inspection and copying during regular business hours at the FCC Reference Information Center, Portals II, 445 12th Street, SW., Room CY-A257, Washington, DC, 20554. The September 17, 2002 Public Notice may also be purchased from the Commission's duplicating contractor, Qualex International, Portals II, 445 12th Street, SW., Room CY-B402, Washington, DC, 20554, telephone 202-863-2893, facsimile 202-863-2898, or via e-mail qualexint@aol.com.

On September 13, 2002, the Wireless Telecommunications Bureau (“Bureau”) released a public notice seeking comment on ArrayComm, Inc.”s request for postponement of the 1670-1675 MHz band Auction (“Auction No. 46”). Because of the impending September 25, 2002 deadline for the submission of short-form applications, the Bureau sought comment on ArrayComm's request on an expedited basis and directed that comments be filed on or before September 20, 2002.

The Bureau revises the pre-auction schedule for Auction No. 46 to give it time to consider ArrayComm's request and any comments filed in response. The new schedule for Auction No. 46 is as follows:

Short-Form Application (FCC Form 175)

Filing Window Opens

September 25, 2002; 9 a.m. ET

Short-Form Application (FCC Form 175) Deadline

October 1, 2002; 6 p.m. ET

Upfront Payments Deadline

October 15, 2002; 6 p.m. ET

Mock Auction

October 25, 2002

Auction Begins

October 30, 2002

Federal Communications Commission.
Louis J. Sigalos,
Deputy Chief, Auctions & Industry Analysis Division, Wireless Telecommunications Commission.

[FR Doc. 02-24593 Filed 9-26-02; 8:45 am]

BILLING CODE 6712-01-P